DEPARTMENT OF AGRICULTURE

Forest Service

Newspapers Used for Publication of Legal Notices by the Pacific Southwest Region: California

AGENCY: Forest Service, Agriculture (USDA).

ACTION: Notice of newspapers of record.

SUMMARY: This notice lists the newspapers that will be used by the ranger districts, national forests, and regional office of the Pacific Southwest Region to publish legal notices required under Agency regulations. The intended effect of this action is to inform interested members of the public which newspapers the Forest Service will use to publish notices of projects and activities implementing land management plans. Notices published in newspapers of record may notify the public of Forest Service proposals, provide information on the procedures to comment or object, and establish the date that the Forest Service will use to determine if comments or objections were timely.

DATES: Publication of legal notices in the listed newspapers begins on the date of this publication. This list of newspapers will remain in effect until a new list is published in the Federal Register.

FOR FURTHER INFORMATION CONTACT: Jennifer Marsolais, Regional Administrative Review Coordinator, USDA Forest Service, Pacific Southwest Regional Office, 1323 Club Drive, Vallejo, CA 94592, by phone at (530) 651-8848 and by email at Jennifer.Marsolais@usda.gov.

SUPPLEMENTARY INFORMATION: The administrative procedures at 36 Code of Federal Regulations (CFR) parts 214, 218, and 219 require the Forest Service to publish notices in a newspaper of general circulation. The content of the notices is specified in 36 CFR 214, 218, and 219. In general, the notices will identify: the decision or project by title or subject matter; the name and title of the official making the decision; how to obtain additional information; and where and how to file comments or objections. The date the notice is published will be used to establish the official date for the beginning of the comment or objection period.

In addition to the primary newspaper listed for each unit, some Forest Supervisors and District Rangers have listed newspapers providing additional notice. The timeframe for filing a comment or objection shall be based on the date of publication in the first (primary) newspaper listed for each unit.

Pacific Southwest Regional Office

Regional Forester notices:

Sacramento Bee, published in Sacramento, California.

Angeles National Forest, California

Forest Supervisor notices:

Los Angeles Times, published in Los Angeles, California.

District Ranger notices:

Los Angeles Ranger District: Daily News, published in Los Angeles, California. Newspapers providing additional notice for Los Angeles Ranger District: Pasadena Star News, published in Pasadena, California; and Foothill Leader, published in Glendale, California.

San Gabriel River Ranger District: Inland Valley Bulletin, published in Los Angeles, California. Newspapers providing additional notice: San Gabriel Valley Tribune, published in West Covina, California.

Santa Clara/Mojave Rivers Ranger District: Daily News, published in Los Angeles, California. Newspapers providing additional notice: Antelope Valley Press, published in Palmdale, California; and Mountaineer Progress, published in Wrightwood, California.

Cleveland National Forest, California

Forest Supervisor notices:

San Diego Union-Tribune, published in San Diego, California.

District Ranger notices:

Descanso Ranger District: San Diego Union-Tribune, published in San Diego, California.

Palomar Ranger District: San Diego Union-Tribune, published in San Diego, California. Newspaper providing additional notice: Riverside Press Enterprise, published in Riverside, California.

Trabuco Ranger District: Riverside Press Enterprise, published in Riverside, California. Newspaper providing additional notice: Orange County Register, published in Santa Ana, California.

Eldorado National Forest, California

Forest Supervisor and District Ranger notices:

Mountain Democrat, published in Placerville, California.

Inyo National Forest, California

Forest Supervisor and District Ranger notices:

Inyo Register, published in Bishop, California.

Klamath National Forest, California

Forest Supervisor and District Ranger notices:

Siskiyou Daily News, published in Yreka, California.

Lake Tahoe Basin Management Unit, California and Nevada

Forest Supervisor notices:

Tahoe Daily Tribune, published in South Lake Tahoe, California.

Lassen National Forest, California

Forest Supervisor notices:

Lassen County Times, published in Susanville, California.

District Ranger notices:

Eagle Lake Ranger District: Lassen County Times, published in Susanville, California.

Almanor Ranger District: Chester Progressive, published in Chester, California.

Hat Creek Ranger District: Intermountain News, published in Burney, California.

Los Padres National Forest, California

Forest Supervisor notices:

Santa Barbara Independent, published in Santa Barbara, California.

District Ranger notices:

Monterey Ranger District: Monterey County Herald, published in Monterey, California.

Santa Lucia Ranger District: The Tribune, published in San Luis Obispo, California.

Santa Barbara Ranger District: Santa Barbara Independent, published in Santa Barbara, California.

Ojai Ranger District: Ventura County Star, published in Ventura, California.

Mt. Pinos Ranger District: The Mountain Enterprise, published in Frazier Park, California.

Mendocino National Forest, California

Forest Supervisor notices:

Chico Enterprise-Record, published in Chico, California.

District Ranger notices:

Grindstone District: Chico Enterprise-Record, published in Chico, California.

Upper Lake and Covelo Districts: Ukiah Daily Journal, published in Ukiah, California.

Modoc National Forest, California

Forest Supervisor and District Ranger notices:

Modoc County Record, published in Alturas, California.

Plumas National Forest, California

Forest Supervisor notices:

Mountain Messenger, published in Downieville, California.

District Ranger notices:

Beckwourth Ranger District: Sierra Booster, published in Loyalton, California. Newspaper occasionally providing additional notice: Mountain Messenger, published in Downieville, California.

Feather River Ranger District: Oroville Mercury Register, Oroville, California.

Mt. Hough Ranger District: Mountain Messenger, published in Downieville, California.

San Bernardino National Forest, California

Forest Supervisor notices:

San Bernardino Sun, published in San Bernardino, California.

District Ranger notices:

Mountaintop Ranger District—Arrowhead Area: Mountain News, published in Blue Jay, California.

Mountaintop Ranger District—Big Bear Area: Big Bear Grizzly, published in Big Bear, California.

Front Country Ranger District: San Bernardino Sun, published in San Bernardino, California.

San Jacinto Ranger District: Idyllwild Town Crier, published in Idyllwild, California.

Sequoia National Forest, California

Forest Supervisor and District Ranger notices:

Porterville Recorder, published in Porterville, California.

Shasta-Trinity National Forest, California

Forest Supervisor and District Ranger notices:

Record Searchlight, published in Redding, California.

Sierra National Forest, California

Forest Supervisor and District Ranger notices:

Fresno Bee, published in Fresno, California.

Six Rivers National Forest, California

Forest Supervisor notices:

Times Standard, published in Eureka, California.

District Ranger notices:

Smith River National Recreation Area: Del Norte Triplicate, published in Crescent City, California.

Orleans and Lower Trinity Districts: The Two Rivers Tribune, published in Hoopa, California.

Mad River District: Times Standard, published in Eureka, California.

Stanislaus National Forest, California

Forest Supervisor and District Ranger notices:

The Union Democrat, published in Sonora, California.

Tahoe National Forest, California

Forest Supervisor notices:

The Union, published in Grass Valley, California.

District Ranger notices:

American River Ranger District: Auburn Journal, published in Auburn, California.

Sierraville Ranger District: Mountain Messenger, published in Downieville, California. Newspapers providing additional notice: Sierra Booster, published in Loyalton, California, and Portola Recorder, published in Portola, California.

Truckee Ranger District: Sierra Sun, published in Truckee, California.

Yuba River Ranger District: The Union, published in Grass Valley, California. Newspapers providing additional notice: Mountain Messenger, published in Downieville, California.

Keith Lannom,
Associate Deputy Chief, National Forest System.

[FR Doc. 2024-22711 Filed 10-1-24; 8:45 am]

BILLING CODE 3411-15-P